DEPARTMENT OF AGRICULTURE

Office of the Secretary

Meeting Notice of the Agricultural Research Service—Animal Handling and Welfare Review Panel

AGENCY: Research, Education, and Economics, USDA.

ACTION: Notice of public meeting.

SUMMARY: In accordance with 7 U.S.C. 3124a, Federal-State Partnership and Coordination, the United States Department of Agriculture (USDA) announces an open meeting of the Agricultural Research Service—Animal Handling and Welfare Review Panel (ARS-AHWR) to discuss their report and recommendations on the U.S. Meat Animal Research Center.

DATES: The ARS-AHWR will meet virtually on March 18, 2015, at 1 p.m. Eastern Daylight Time.

ADDRESSES: The meeting will take place virtually at the AT&T Meeting Room below. Please follow the pre-registration instructions to ensure your participation in the meeting.

Call-In instructions for Wednesday, March 18, 2015 at 1:00 p.m. Eastern Daylight Time:

Web Preregistration: Participants may preregister for this teleconference at http://emsp.intellor.com?p=419075&do=register&t=8. Once the participant registers, a confirmation page will display dial-in numbers and a unique PIN, and the participant will also receive an email confirmation of this information.

You may submit written comments to: REE Advisory Board Office, Jamie L. Whitten Building, Room 332A, 1400 Independence Avenue SW., Washington, DC 20250, or via email at ahwrpanel@usda.gov.

FOR FURTHER INFORMATION CONTACT: Michele Esch, Executive Director, REE Advisory Board Office, US Department of Agriculture; telephone: (202) 720-3684; fax: (202) 720-6199; or email: ahwrpanel@usda.gov.

SUPPLEMENTARY INFORMATION: On Wednesday, March 18, 2015, at 1:00 p.m. Eastern Daylight Time a virtual meeting will be conducted for any interested stakeholders and/or interested parties, to hear the summary of findings and recommendations on the review of the animal handling, care, and welfare at the U.S. Meat Animal Research Center. The Review Panel plans to hear stakeholder input received from this meeting as well as other written comments. The report will be available at www.ree.usda.gov on March 9, 2015.

This meeting is open to the public and any interested individuals wishing to attend.

Opportunity for verbal public comment will be offered on the day of the meeting. Written comments by attendees or other interested stakeholders will be welcomed for the public record before and up to the day of the meeting (by close of business Wednesday, March 18, 2015). All statements will become a part of the official record of the REE Mission Area and will be kept on file for public review in the REE Advisory Board Office.

Done at Washington, DC this 10th day of March 2015.
Catherine E. Woteki,
Under Secretary, REE, Chief Scientist, USDA.

[FR Doc. 2015-05790 Filed 3-12-15; 8:45 am]

BILLING CODE 3410-03-P